SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before December 3, 2010.

ADDRESSES: Send all comments regarding whether these information collections are necessary for the proper performance of the function of the agency, whether the burden estimates are accurate, and if there are ways to minimize the estimated burden and enhance the quality of the collections, to Gail Hepler, Chief 7(a) Program Branch, Office of Financial Assistance, Small Business Administration, 409 3rd Street, 8th Floor, Washington, DC 20416.

FOR FURTHER INFORMATION CONTACT: Gail Hepler, Office of Financial Assistance, 202-205-7530 gail.hepler@sba.gov; Curtis B. Rich, Management Analyst, 202-205-7030 curtis.rich@sba.gov.

SUPPLEMENTARY INFORMATION:

The purpose of this data collection is to monitor loan payment information on SBA loan portfolios arising from the Immediate Disaster Assistance Program. This exercise will involve monthly updates on the payments received by lenders from small businesses that have received funding through this guaranty program. The Agency looks to better manage the program's effectiveness by having lenders provide this form of periodic reporting to SBA.

Title: “Guaranteed Disaster Assistance Program—Payment Reporting.”

Description of Respondents: Small Businesses that have experienced a physical or economic disaster in a federally declared disaster.

Form Number: N/A.

Annual Responses: 5,580.

Annual Burden: 467.

Small Business Administration (SBA) has established a loan program, the immediate Disaster Assistance Program, (IDAP) to assist small businesses affected by a federally declared disaster or economic disaster. The program will provide guaranteed loan through 7(a) lenders participating in IDAP to cover the short time frame between the data of the disaster damage and a small business. This requested information, which will be provided by the affected small businesses and IDAP participating lenders, will be used to determine eligibility for an IDAP loan and participation in the program.

Title: “Immediate Disaster Assistance Loan Program Application and Eligibility Data.”

Description of Respondents: Small Businesses that have experienced a physical or economic disaster in a federally declared disaster.

Form Numbers: 2410, 2411, 2412.

Annual Responses: 984.

Annual Burden: 543.

Jacqueline White,
Chief, Administrative Information Branch.

[FR Doc. 2010-24764 Filed 10-1-10; 8:45 am]

BILLING CODE 8025-01-P